DEPARTMENT OF COMMERCE

Foreign-Trade Zones Board

[B-78-2012]

Foreign-Trade Zone 185—Culpeper County, VA Application for Reorganization Under Alternative Site Framework

An application has been submitted to the Foreign-Trade Zones (FTZ) Board (the Board) by the County of Culpeper, grantee of FTZ 185, requesting authority to reorganize the zone under the alternative site framework (ASF) adopted by the Board (15 CFR 400.2(c)). The ASF is an option for grantees for the establishment or reorganization of general-purpose zones and can permit significantly greater flexibility in the designation of new “subzones” or “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally docketed on November 1, 2012.

FTZ 185 was approved by the Board on May 22, 1992 (Board Order 578, 57 FR 23385, 6/3/92), and expanded on December 22, 1997 (Board Order 945, 63 FR 205, 1/5/98), and on March 7, 2008 (Board Order 1550, 73 FR 14434, 3/18/08). On April 20, 2010, the grant of authority was reissued to the County of Culpeper (Board Order 1677, 75 FR 24571, 5/5/10).

The current zone project includes the following sites: Site 1 (78 acres)—Culpeper Business and Office Park, Route 29 and Route 666, Culpeper County; Site 2 (104 acres)—Culpeper County Industrial Airpark, Route 29 North, Elkwood; and, Site 3 (65 acres)—REO Distribution Services, 1 Solutions Way, Waynesboro.

The grantee's proposed service area under the ASF would be the Counties of Albemarle, Augusta, Bath, Caroline, Culpeper, Fluvanna, Greene, Highland, King George, Louisa, Madison, Nelson, Orange, Page, Rappahannock, Rockbridge, Rockingham, Shenandoah, Spotsylvania, Stafford and Warren, as described in the application. If approved, the grantee would be able to serve sites throughout the service area based on companies' needs for FTZ designation. The proposed service area is within and adjacent to the Front Royal Customs and Border Protection port of entry.

The applicant is requesting authority to reorganize its existing zone project to include all of the existing sites as “magnet” sites. The ASF allows for the possible exemption of one magnet site from the “sunset” time limits that generally apply to sites under the ASF, and the applicant proposes that Site 2 be so exempted. No subzones/usage-driven sites are being requested at this time. The application would have no impact on FTZ 185's previously authorized subzones.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is January 7, 2013. Rebuttal comments in response to material submitted during the foregoing period may be submitted during the subsequent 15-day period to January 22, 2013.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz. For further information, contact Kathleen Boyce at Kathleen.Boyce@trade.gov or (202) 482-1346.

Dated: November 2, 2012.
Andrew McGilvray,
Executive Secretary.

[FR Doc. 2012-27284 Filed 11-6-12; 8:45 am]

BILLING CODE P